DEPARTMENT OF THE INTERIOR

Bureau of Indian Affairs

Information Collection for Energy and Mineral Development Program Grants; Comment Request

AGENCY: Bureau of Indian Affairs, Interior.

ACTION: Notice of Submission to the Office of Management and Budget.

SUMMARY: The Bureau of Indian Affairs (BIA) is submitting the new information collection on the Energy and Mineral Development Program Grants for review and approval as required by the Paperwork Reduction Act. The Office of Management and Budget (OMB) will assign a Control Number.

DATES: Submit comments on or before March 11, 2010.

ADDRESSES: You may submit comments on the information collection to the Desk Officer for Department of the Interior at the Office of Management and Budget, by facsimile to (202) 395-5806 or you may send an e-mail to: OIRA_DOCKET@ omb.eop.gov. Please send a copy of your comments to Darryl Francois, Department of the Interior, Office of Indian Energy and Economic Development, Room 20, South Interior Building, 1951 Constitution Avenue, NW., Washington, DC 20245, fax (202) 208-4564; e-mail: Darryl.Francois@bia.gov.

FOR FURTHER INFORMATION CONTACT: You may request further information or obtain copies of the information collection request submission from Darryl Francois, Department of the Interior, Office of Indian Energy and Economic Development. Telephone (202) 219-0740.

SUPPLEMENTARY INFORMATION:

I. Abstract

The Energy Policy Act of 2005 authorizes the Secretary of the Interior to provide grants to Indian tribes for energy development. See 25 U.S.C. 3502. The Office of Indian Energy and Economic Development (IEED) administers and manages the Energy and Minerals Development Program (EMDP). Congress appropriates funds to EMDP on a year-to-year basis. When funding is available, IEED may solicit proposals for energy and mineral development projects from Indian tribes whose lands are held in trust or restricted fee by the Federal government. Tribes may use the contracting mechanism established by the Indian Self-Determination Act or may receive the grant money through adjustments to their funding from the Office of Self-Governance. See 25 U.S.C. 450 et seq. The projects may be in the areas of exploration, assessment, development, feasibility, or market studies. Indian tribes that would like to apply for an EMDP grant must submit an application that includes certain information, and must assist IEED by providing information in support of any National Environmental Policy Act (NEPA) analyses. A complete application must contain the following elements.

• A current, signed tribal resolution that: (1) Authorizes the energy and mineral development project for the appropriate fiscal year; (2) describes the commodity or commodities to be studied; (3) states that the tribe is willing to consider developing any potential energy or mineral resources discovered; (4) describes how the tribe prefers to have the energy or mineral program conducted (i.e., through the sole utilization of IEED in-house professional staff, in conjunction with professional tribal staff, through private contractors, or through other appropriate means); and (5) states that the tribe will consider public release of information obtained from the energy and mineral development study upon request from IEED.

• A proposal describing the planned activities and deliverable products that will be accomplished within the fiscal year for which funding is requested, including:

○ Overview, including the elements of the proposed study, reasons why the proposed study is needed, total requested funding, responsible parties for technical exaction and administration, and tribal point of contact for the project;

○ Technical summary of the project, including whether the request will begin a new study or continue a study and the duration of the study, a description of any known energy and/or mineral deposit, reference to any existing mineral exploration information, and a description of any environmental or cultural sensitive areas;

○ Project objective, goals and scope of work;

○ Deliverable products, such as technical data and maps; and

○ Resumes of key personnel.

• A detailed budget estimate, including contracted personnel costs, travel estimates, data collection and analysis costs, and other expenses.

The IEED requires this information to ensure that it provides funding only to those projects that meet the goals of the EMDP and the purposes for which Congress provides the appropriations.

Once a tribe has been accepted into the EMDP, the tribe must also submit quarterly reports, which are one- or two-page documents summarizing events, accomplishments, problems and/or results in executing the project. Each report is due two weeks after the end of the fiscal quarter.

The Paperwork Reduction Act of 1995 provides an opportunity for interested parties to comment on proposed information collection requests. The IEED is proceeding with this public comment period as the first step in obtaining an information collection clearance from OMB. Each clearance request contains (1) type of review, (2) title, (3) summary of the collection, (4) respondents, (5) frequency of collection, (6) reporting and recordkeeping requirements.

II. Request for Comments

The IEED requests your comments on this collection concerning: (a) The necessity of this information collection for the proper performance of the functions of the agency, including whether the information will have practical utility; (b) the accuracy of the agency's estimate of the burden (hours and cost) of the collection of information, including the validity of the methodology and assumptions used; (c) ways we could enhance the quality, utility and clarity of the information to be collected; and (d) ways we could minimize the burden of the collection of the information on the respondents, such as through the use of automated collection techniques or other forms of information technology.

Please note that an agency may not sponsor or request, and an individual need not respond to, a collection of information unless it has a valid OMB Control Number.

It is our policy to make all comments available to the public for review at the location listed in the ADDRESSES section. Before including your address, phone number, e-mail address or other personally identifiable information, be advised that your entire comment—including your personally identifiable information—may be made public at any time. While you may request that we withhold your personally identifiable information, we cannot guarantee that we will be able to do so.

III. Data

OMB Control Number: 1076-0XXX.

Type of Review: New.

Title: Energy and Mineral Development Program Grant Solicitation.

Brief Description of Collection: Indian tribes that would like to apply for an EMDP grant must submit an application that includes certain information. A complete application must contain a current, signed tribal resolution that provides sufficient information to authorize the project and comply with the terms of the grant; a proposal describing the planned activities and deliverable products; and a detailed budget estimate. The IEED requires this information to ensure that it provides funding only to those projects that meet the goals of the EMDP and purposes for which Congress provides the appropriation. Upon acceptance of an application, a tribe must then submit one- to two-page quarterly progress reports summarizing events, accomplishments, problems and/or results in executing the project. Approximately 55 tribes apply each year, but IEED accepts approximately 18 of those applications each year. Response is required to obtain a benefit.

Respondents: Indian tribes with trust or restricted land.

Number of Respondents: 55 applicants per year; 18 project participants each year.

Estimated Time per Response: 40 hours per application; 1.5 hours per progress report.

Frequency of Response: Once per year for applications; 4 times per year for progress reports.

Total Annual Burden to Respondents: 2,308 hours (2,200 for applications and 108 for progress reports).

Dated: February 3, 2010.
Alvin Foster,
Acting Chief Information Officer—Indian Affairs.

[FR Doc. 2010-2718 Filed 2-8-10; 8:45 am]

BILLING CODE 4310-4M-P